DEPARTMENT OF TRANSPORTATION

Federal Transit Administration

Environmental Impact Statement on the Central Corridor Project Located Between Minneapolis and St. Paul, Minnesota

AGENCY: Federal Transit Administration (FTA), DOT.

ACTION: Notice of Intent to prepare an environmental impact statement.

SUMMARY: The Federal Transit Administration (FTA) is issuing this notice to advise interested agencies and the public that, in accordance with the National Environmental Policy Act, an Environmental Impact Statement (EIS) is being prepared for the Central Corridor Transit Project located between Minneapolis and St. Paul, Minnesota.

DATES: One Interagency Scoping Meeting and two Public Scoping Meetings will be held on the following dates and times at the locations indicated.

Interagency Scoping Meeting

Tuesday, June 26, 2001, from 2:00 p.m. to 4:00 p.m., Sheraton Midway, 400 North Hamline Avenue, St. Paul, Minnesota 55104,

Public Scoping Meetings

Tuesday, June 26, 2001, 8:00 a.m. to 9:30 a.m., Sheraton Midway, 400 North Hamline Avenue, St. Paul, Minnesota 55104

Tuesday, June 26, 2001, 5:00 p.m. to 8:00 p.m., Lifetrack Resources Job Search Center, 709 University Avenue West, St. Paul, Minnesota 55104

Wednesday, June 27, 2001, 5:00 p.m. to 8:00 p.m., Radisson Metrodome, 615 Washington Avenue SE., Minneapolis, Minnesota 55414

ADDRESSES: Written comments on the scope of the analysis and impacts to be considered should be sent by July 20, 2001 to: Mr. Steve Morris, Project Manager, Ramsey County Regional Railroad Authority (RCRRA), 50 West Kellogg Boulevard, Suite 665, St. Paul, Minnesota 55102, Telephone: (651) 266-2784, Fax: (651) 266-2761, E-mail: steve.morris@co.ramsey.mn.us, TDD: 1 800 627-3529.

FOR FURTHER INFORMATION CONTACT: Mr. Joel P. Ettinger, Regional Administrator, Federal Transit Administration (FTA), Region V, 200 West Adams Street, Suite 2410, Chicago, Illinois 60606, Telephone: (312) 353-2789.

SUPPLEMENTARY INFORMATION: The FTA (the federal lead agency for this action) in cooperation with the Ramsey County Regional Railroad Authority (RCRRA), the local lead agency, will prepare an Environmental Impact Statement (EIS) for the Central Corridor Transit Project.

I. Scoping

The FTA and the RCRRA invite interested individuals, organizations and federal, state and local agencies to participate in: defining the options to be evaluated in the EIS; in identifying the social, economic and environmental impacts to be evaluated; and suggesting alternative options that are less costly or have fewer environmental impacts while achieving similar transportation objectives. An information packet, referred to as the Scoping Booklet is being circulated to all federal, state and local agencies having jurisdiction in the project, and all interested parties currently on the RCRRA mailing list. Other interested parties may request this Scoping Booklet by contacting Steve Morris at the address indicated above.

Three Public Scoping Meetings will be held in the study area. The first will be held from 8:00 to 9:30 a.m. on Tuesday, June 26, 2001, at the Sheraton Midway, 400 North Hamline Avenue, St. Paul, Minnesota. The second will be held from 5:00 p.m. to 8:00 p.m. on Tuesday, June 26, 2001, at the Lifetrack Resources Job Search Center, 709 University Avenue West, St. Paul, Minnesota. The third Public Scoping Meeting will be held from 5:00 p.m. to 8:00 p.m. on Wednesday, June 27, 2001, at the Radisson Metrodome, 615 Washington Avenue Southeast, Minneapolis, Minnesota. One Interagency Scoping Meeting will be held from 2:00 p.m. to 4:00 p.m. on Tuesday, June 26, 2001, at the Sheraton Midway, 400 North Hamline Avenue, St. Paul, Minnesota. People with special needs should call Steve Morris at (651) 266-2784. The buildings are accessible to persons with disabilities.

Scoping comments may be made orally at the Public Scoping Meetings or in writing by July 20, 2001. Comments or questions should be directed to Mr. Steve Morris at the address indicated above.

II. Description of the Study Area and Transportation Needs

The Central Corridor study area is described as the 11-mile corridor extending between Minneapolis and Saint Paul, Minnesota on the west and east, and bounded by the Burlington Northern-Santa Fe (BNSF) Northern Mainline on the north and the Canadian Pacific Railroad (CP Railway) Shortline Railroad on the south. The proposed Central Corridor would connect the central business districts of Minneapolis and St. Paul, and the University of Minnesota, and would serve the transit-dependent population located within the study area.

Throughout the last two decades, the Central Corridor has been the focus of several studies regarding the feasibility of various mass transit modes. Each of these studies has identified the Central Corridor as the region's priority corridor for mass transit investment. The current 2020 Long-Range Transportation Plan and the State Transportation Improvement Program (STIP) both include funding commitments for the Central Corridor Project.

In February 2000, the RCRRA initiated the Central Corridor Transit Study to identify the mass transit options for the Central Corridor. Preliminary phases of the study identified the purpose and need for transportation improvements in the corridor and identified and screened potential mass transit options that would meet the purpose and need. The purpose and need for transportation improvements in the study area were focused on three principal areas: economic opportunity and investment; communities and environment; and transportation and mobility. Following a multiple-phase screening process, it was determined that the potential mass transit options that would address the purpose and need for the Central Corridor included: Light Rail Transit (LRT); Busway/ Bus Rapid Transit (BRT), and Commuter Rail.

Although two commuter rail options were being considered during the preliminary phases of the Central Corridor Transit Study, the evaluation of the commuter rail options will be deferred to a separate environmental document based on regional commuter rail connections and system planning, funding and operating agency responsibility.

A public involvement program has been developed and initiated with a website, newsletters, informational meetings, and public hearings.

III. Alternatives

The transit modes initially considered for the Central Corridor included: Bus Transit, Busway/Bus Rapid Transit, Light Rail Transit, Commuter Rail, Streetcar, Heavy Rail Transit, Monorail, Automated Guideway Transit, Personal Rapid Transit, and Magnetic Levitation. The seven route alignments initially studied were the Burlington Northern Santa Fe Northern Mainline, the Burlington Northern Santa Fe Southern Mainline, the Pierce Butler Route, University Avenue, I-94, the Canadian Pacific Rail, and the Canadian Pacific Rail West.

The transportation alternatives currently proposed for consideration for the Central Corridor Draft EIS include:

1. No-Build Alternative—No change to transportation services or facilities in the Central Corridor beyond already committed projects. This includes only those roadway and transit improvements defined in the appropriate agencies' Long Range Transportation Plans and Transit Development Plans for which funding has been committed.

2. Transportation System Management (TSM) Alternative—Low cost transportation infrastructure and bus transit improvements for the Central Corridor. Intelligent Transportation Systems (ITS), Travel Demand Management (TDM), bus operations and other TSM improvements will be included in this alternative.

3. Busway/Bus Rapid Transit (BRT) Alternative—A Busway/Bus Rapid Transit (BRT) line to be constructed with several station stops between downtown Minneapolis, the University of Minnesota and downtown St. Paul, primarily in exclusive guideway in the center of University Avenue. The alternative would include all facilities associated with the construction and operations of the Busway/BRT, including right-of-way, structures, and stations, as well as Busway/BRT, feeder bus and rail operating plans. The Busway/BRT alternative would also incorporate the elements of the No-Build and TSM alternatives.

4. Light Rail Transit (LRT) Alternatives—A Light Rail Transit (LRT) line to be constructed with several station stops between downtown Minneapolis, the University of Minnesota and downtown St. Paul, on either University Avenue or I-94. Both the University Avenue and I-94 LRT alternative would incorporate the elements of the No-Build and TSM alternatives.

The I-94 LRT Alternative would provide LRT service, primarily in barrier-separated exclusive lanes in the median of I-94. The alternative would include all facilities associated with the construction and operations of the LRT, including right-of-way, tracks, structures, and stations, as well as LRT, feeder bus and rail operating plans.

The University Avenue LRT Alternative would provide LRT service, primarily in exclusive lanes in the center of University Avenue. The alternative would include all facilities associated with the construction and operations of the LRT, including right-of-way, tracks, structures, and stations, as well as LRT, feeder bus and rail operating plans.

IV. Probable Effects/Potential Impacts for Analysis

The FTA and the RCRRA will consider probable effects and potentially significant impacts to social, economic and environmental factors associated with the alternatives under evaluation in the EIS. Potential environmental issues to be addressed will include: Land use, historic and archaeological resources, traffic and parking, noise and vibration, environmental justice, regulatory floodway/floodplain encroachments, coordination with transportation and economic development projects, and construction impacts. Other issues to be addressed in the EIS include: natural areas, ecosystems, rare and endangered species, water resources, air/surface water and groundwater quality, energy, potentially contaminated sites, displacements and relocations, and parklands. The potential impacts will be evaluated for both the construction period and the long-term operations period of each alternative considered. In addition, the cumulative effects of the proposed project alternatives will be identified. Measures to avoid or mitigate any significant adverse impacts will be developed.

V. FTA Procedures

In accordance the regulations and guidance established by the Council on Environmental Quality (CEQ), as well as the Code of Federal Regulations, Title 23, Part 771 (23 CFR 771) of the FHWA/FTA environmental regulations and policies, the EIS will include an analysis of the social, economic and environmental impacts of each of the alternatives selected for evaluation. The EIS will also comply with the requirements of the 1990 Clean Air Act Amendments (CAAA) and with Executive Order 12898 regarding Environmental Justice. After its publication, the Draft Environmental Impact Statement (DEIS) will be available for public and agency review and comment. Public hearings will be held on the DEIS.

The Final EIS will consider comments received during the DEIS public review and will identify the preferred alternative. Opportunity for additional public comment will be provided throughout all phases of project development.

Issued on: May 30, 2001.
Joel P. Ettinger,
Region 5 Administrator, Federal Transit Administration, Chicago, Illinois.

[FR Doc. 01-14102 Filed 6-4-01; 8:45 am]

BILLING CODE 4910-57-P